COMMITTEE FOR PURCHASE FROM PEOPLE WHO ARE BLIND OR SEVERELY DISABLED

Initial Regulatory Flexibility Act Certification

I certify that the following action will not have a significant impact on a substantial number of small entities. The major factors considered for this certification were:

1. If approved, the action will not result in any additional reporting, recordkeeping or other compliance requirements for small entities other than the small organization that will furnish the service to the Government.

2. If approved, the action will result in authorizing a small entity to furnish the service to the Government.

3. There are no known regulatory alternatives which would accomplish the objectives of the Javits-Wagner-O'Day Act (41 U.S.C. 8501-8506) in connection with the service proposed for addition to the Procurement List.

Item proposed for addition to the Procurement List:

Service

Service Type: Document Destruction Service

Mandatory for: Defense Logistics Agency, Defense Supply Center, 3990 East Broad Street, Columbus, OH

Mandatory Source(s) of Supply: Greene, Inc., Xenia, OH

Contracting Activity: Defense Logistics Agency, DLA Contracting SVCS OFF Columbus

Deletions

1. If approved, the action will not result in additional reporting, recordkeeping or other compliance requirements for small entities.

2. If approved, the action may result in authorizing small entities to furnish the products and services to the Government.

3. There are no known regulatory alternatives which would accomplish the objectives of the Javits-Wagner-O'Day Act (41 U.S.C. 8501-8506) in connection with the products and services proposed for deletion from the Procurement List.

Items proposed for deletion from the Procurement List:

Products

NSN(s)—Product Name(s):

6230-01-617-3776—Kit, Safety Flare, Programmable Flicker Pattern, Red LED, 8in Diameter, AA Battery Operated

6230-01-617-6959—Kit, Safety Flare, Programmable Flicker Pattern, Red LED, 8in Diameter, Rechargeable Power Unit

Mandatory Source(s) of Supply: Tarrant County Association for the Blind, Fort Worth, TX

Contracting Activity: Defense Logistics Agency Troop Support

NSN(s)—Product Name(s):

6545-07-000-0762—USMC Individual First Aid Kit, Complete

6545-09-000-2727—Minor First Aid Kit, USMC Individual First Aid Kit

Mandatory Source(s) of Supply: Chautauqua County Chapter, NYSARC, Jamestown, NY

Contracting Activity: Commander, Quantico, VA

NSN(s)—Product Name(s):

8415-01-502-3285—Silk/Lightweight Drawers, Size Small—Regular, Green

8415-01-502-3287—Silk/Lightweight Drawers, Size Medium—Regular, Green

8415-01-502-3288—Silk/Lightweight Drawers, Size Large—Regular, Green

8415-01-502-3289—Silk/Lightweight Drawers, Size Large—Long, Green

8415-01-502-3290—Silk/Lightweight Drawers, Size Extra Large—Regular

8415-01-502-3292—Silk/Lightweight Drawers, Size Extra Large—Long, G

8415-01-502-3321—Green, Midweight Undershirt, Size Short—Regular

8415-01-502-3322—Green, Midweight Undershirt, Size Medium—Regular

8415-01-502-3324—Green, Midweight Undershirt, Size Large—Regular

8415-01-502-3325—Green, Midweight Undershirt, X-tra Large—Regular

8415-01-502-3328—Green, Midweight Undershirt, Large—Long

8415-01-502-3341—Green, Midweight Undershirt, X-Large—Long

8415-01-502-4366—Silk/Lightweight Undershirts, Size Small—Regular,

8415-01-502-4368—Silk/Lightweight Undershirts, Size Medium-Regular,

8415-01-502-4370—Silk/Lightweight Undershirts, Size Large—Regular,

8415-01-502-4371—Silk/Lightweight Undershirts, Size Large—Long, Green

8415-01-502-4373—Silk/Lightweight Undershirts, Size Extra Large—Regular

8415-01-502-4375—Silk/Lightweight Undershirts, Size Extra Large—Long

Mandatory Source(s) of Supply:

Peckham Vocational Industries, Inc., Lansing, MI

Southeastern Kentucky Rehabilitation Industries, Inc., Corbin, KY

Contracting Activity: Defense Logistics Agency Troop Support

NSN(s)—Product Name(s):

5340-01-230-0219—Bracket, Angle with Four Holes, Abrams M-1 Tank, Green

5340-01-386-2917—Bracket, Angle, Command AAVC-7A1 Amphibious Assault Vehicle

5340-01-112-9693—Bracket, Angle, Bradley Fighting Vehicle System

5340-01-525-0579—Bracket, Angle, Right Side, Medium Tactical Vehicles

5340-01-102-3483—Bracket, Angle with Two Holes, Abrams M-1 Tank

5340-01-525-0574—Bracket, Angle, Left Side, Medium Tactical Vehicles

5340-01-519-7318—Bracket, Angle, Truck 1-1/4 Ton HMMWV Vehicle System

5340-01-162-7040—Bracket, Angle, Personnel M113A1, M113-A2, M-113A3 Armored Carrier

5340-01-163-4245—Bracket, Double Angle, Hercules M88A2 Recovery Vehicle

5340-01-288-5231—Bracket, Double Angle, Bradley Fighting Vehicle System

5340-01-167-1810—Bracket, Mounting, Personnel M113A1, M113-A2, M-113A3 Armored Carrier

5340-01-329-8589—Bracket, Mounting, Bradley Fighting Vehicle System

5340-01-084-1232—Bracket, Mounting, Cargo Truck

5340-01-500-4197—Bracket, Mounting, Mine Resistant Ambush Protected Fighting Vehicle

5340-00-627-5411—Bracket, Mounting, Stratofortress B-52 Aircraft

5340-01-347-9608—Bracket, Mounting, F-16 Aircraft

5340-00-602-4977—Bracket, Mounting, Hercules M88A2 Recovery Vehicle

5340-01-272-6634—Bracket, Mounting, Truck 1-1/4 Ton HMMWV Vehicle System

5340-01-098-5119—Bracket, Mounting, Howitzer M-109

5340-01-078-7642—Bracket, Mounting, Abrams M-1 Tank

5340-01-521-0196—Bracket, Mounting, Non-Weapons System

5340-01-458-0473—Bracket, Mounting, M-16 Rifle 5.56MM

Mandatory Source(s) of Supply: Unknown

Contracting Activity: Defense Logistics Agency Troop Support

NSN(s)—Product Name(s):

6840-00-NIB-0039—Disinfectant Spray, Aerosol, Lysol Brand III, Original Scent

6840-00-NIB-0040—Disinfectant Spray, Aerosol, Lysol Brand III, Fresh Scent

6840-00-NIB-0041—Disinfectant Spray, Aerosol, Lysol Brand III, Country Scent

6840-00-NIB-0042—Disinfectant Spray, Aerosol, Lysol Brand III, Crisp Linen Scent

6840-00-NIB-0043—Disinfectant Spray, Aerosol, Lysol Brand III, Spring Waterfall Scent

Mandatory Source(s) of Supply: LC Industries, Inc., Durham, NC

Contracting Activity: GSA/FSS OFC SUP CTR—Paper Products, New York, NY

Service

Service Type: Janitorial/Custodial Service

Mandatory for: USPS, Mail Transportation Equipment Center, 7600 West Roosevelt Road, Forest Park, IL

Mandatory Source(s) of Supply: Lester and Rosalie Anixter Center, Chicago, IL

Contracting Activity: U.S. Postal Service, Washington, DC

Service Type: Janitorial/Custodial Service

Mandatory for: Naval Air Reserve Center, 6201 32nd Avenue, Minneapolis, MN

Mandatory Source(s) of Supply: AccessAbility, Inc., Minneapolis, MN

Contracting Activity: Dept of the Navy, U S Fleet Forces Command

Service Type: Laundry Service

Mandatory for: U.S. Army Aviation Support Command: CMPSC Commissary, Granite City, IL

Mandatory Source(s) of Supply: Unknown

Contracting Activity: Dept of the Army, W40M Northeregion Contract OFC

Dated: July 17, 2018.
Michael R. Jurkowski,
Business Management Specialist, Business Operations.

[FR Doc. 2018-15571 Filed 7-19-18; 8:45 am]

BILLING CODE P